NATIONAL SCIENCE FOUNDATION

Agency Information Collection Activities: Comment Request; Louis Stokes Alliances for Minority Participation (LSAMP) Program Evaluation

AGENCY: National Science Foundation.

ACTION: Notice.

SUMMARY: The National Science Foundation (NSF) is announcing plans to establish this collection. In accordance with the requirements of the Paperwork Reduction Act of 1995, we are providing the opportunity for public comment on this action. After obtaining and considering public comment, NSF will prepare the submission requesting Office of Management and Budget (OMB) clearance of this collection for no longer than 3 years.

DATES: Written comments on this notice must be received by November 25, 2024 to be assured consideration. Comments received after that date will be considered to the extent Practicable. Send comments to the address below.

FOR FURTHER INFORMATION CONTACT: Suzanne H. Plimpton, Reports Clearance Officer, National Science Foundation, 2415 Eisenhower Avenue, Suite E6447, Alexandria, Virginia 22314; telephone (703) 292-7556; or send email to splimpto@nsf.gov. Individuals who use a telecommunications device for the deaf (TDD) may call the Federal Information Relay Service (FIRS) at 1-800-877- 8339, which is accessible 24 hours a day, 7 days a week, 365 days a year (including Federal holidays).

SUPPLEMENTARY INFORMATION:

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Title of Collection: Louis Stokes Alliances for Minority Participation (LSAMP) Program Evaluation.

OMB Control No.: 3145-NEW.

Expiration Date of Approval: Not applicable.

Abstract: This proposed data collection is a core component of a larger comprehensive evaluation strategy to assess the effectiveness and functioning of the Louis Stokes Alliances for Minority Participation (LSAMP) program, funded through grants from the National Science Foundation (NSF). LSAMP alliances are entities at member higher education institutions that support the learning and development of STEM undergraduates from underrepresented backgrounds.

This current research seeks to consider the experiences of those leading and participating in LSAMP since the last full evaluation (which concluded in 2007), as well as current experiences, at ten select site locations. The ten sites were selected by the NSF in collaboration with our research partner who will conduct all data collection, NORC at the University of Chicago. A key component of the site selection process has been to assure variability in site representation, to include sites with more remote geographies, differing populations, and alliance types.

This work will enable the program to better understand where successes can be modeled and opportunities can be identified to better support the underrepresented students in these fields, by encouraging greater inclusion in academic and professional development opportunities. Currently, we are seeking approval to conduct interviews and focus groups with individuals who are affiliated with the LSAMP alliances at these pre-identified sites using the procedures discussed below.

As of FY2021, there were 61 LSAMP alliances, 55 of which were led by four-year institutions. There are three groups of LSAMP alliances: 11 STEM Pathways Implementation Only (SPIO) alliances in existence less than 10 years, 22 STEM Pathways Research Alliances (SPRA) in existence at least 10 years, and 22 alliances that had not yet applied for funding under the 2018 solicitation. Ten of the alliances in existence at least 10 years also have Bridge to the Doctorate (BD) projects that provide additional funding to support students' graduate work. An additional 6 alliances are Bridge to the Baccalaureate (B2B) alliances led by two-year institutions. Each alliance consists of a lead institution and several other affiliated institutions all operating towards the same alliance goals. Affiliated institutions typically are in the same geographic region and may vary by type (e.g., two-year institutions). Participating underrepresented minority (URM) STEM students in alliance schools could be defined in three groups: Level 1 students who receive direct financial support through the alliance for activities, Level 2 students who attended activities sponsored by LSAMP funds, and Level 3 students who are students at LSAMP institutions who did not receive funds or participate in LSAMP activities.

Research suggests that collaboratives, such as the alliances funded by the LSAMP program can improve STEM degree completion rates, but long-term success requires sustained change at the institutional level (Center for Urban Education, 2019; May & Bridger, 2010). LSAMP has a 30-year history of increasing the diversity of science, technology, engineering, and mathematics (STEM) disciplines and the STEM workforce.

NORC at the University of Chicago's (NORC) is leading the present approach for evaluating the operations, success, and opportunities of LSAMP, under the guidance and sponsorship of the NSF Directorate for Education and Human Resources (EHR) Division of Human Resource Development (HRD). This evaluation aims to identify and characterize the organizational structure and institutionalization of LSAMP alliances and assess the impact of LSAMP strategies to strengthen pathways and increase undergraduate and graduate STEM degrees earned by students from populations underrepresented in STEM on all educational levels.

As part of this comprehensive evaluation, and with a focus on fully utilizing all preexisting data, NORC has completed a thorough review of available data (e.g., annual reports). The LSAMP program anticipates using the results of this evaluation (both the review of existing data and data from site visits) to identify “LSAMP best practices” that can be implemented by both LSAMP grantee/alliance institutions and non-LSAMP grantees/alliance institutions to sustain and grow impacts of the LSAMP programming on diversity in STEM and inform the LSAMP program on sustainability mechanisms and goals appropriate for LSAMP alliance institutions to maintain their successful outcomes.

Respondents: LSAMP Faculty and Staff (200); LSAMP Students (120).

Estimated Number of Annual Respondents: 320.

Burden on the Public: Estimated 1-3 hours to participate in an interview or focus group (1 hour for staff and students, 3 hours for coordinators/provosts or other leaders). The estimated burden time is 750 hours.

Dated: September 19, 2024.
Suzanne H. Plimpton,
Reports Clearance Officer, National Science Foundation.

[FR Doc. 2024-21845 Filed 9-23-24; 8:45 am]

BILLING CODE 7555-01-P